DEPARTMENT OF COMMERCE

National Oceanic and Atmospheric Administration

Federal Consistency Appeal by Luz Torres DeRosa From an Objection by the Puerto Rico Planning Board

AGENCY: National Oceanic and Atmospheric Administration (NOAA), Department of Commerce (Commerce).

ACTION: Notice of closure—administrative appeal decision record.

SUMMARY: This announcement provides notice that the decision record has been closed for an administrative appeal filed with the Department of Commerce by Luz Torres DeRosa.

DATES: The decision record for the Luz Torres DeRosa administrative appeal will close as of the date of publication of this notice.

ADDRESSES: Materials from the appeal record are available at the Office of the Assistant General Counsel for Ocean Services, National Oceanic and Atmospheric Administration, U.S. Department of Commerce, 1305 East-West Highway, Silver Spring, MD 20910.

FOR FURTHER INFORMATION CONTACT: Nancy Brisco, Attorney-Adviser, NOAA Office of the General Counsel, 301-713-1219.

SUPPLEMENTARY INFORMATION: Luz Torres DeRosa (Appellant) has filed a notice of appeal with the Secretary of Commerce (Secretary) pursuant to section 307(c)(3)(A) of the Coastal Zone Management Act of 1972 (CZMA), as amended, 16 U.S.C. 1456(c)(3)(A), and implementing regulations found at 15 CFR part 930, subpart H. Mrs. Torres appeals an objection raised by the Puerto Rico Planning Board to a consistency certification contained within her application for a U.S. Army Corps of Engineers permit necessary to reconstruct a stilt house destroyed by Hurricane George. The proposed project is located within the maritime-terrestrial zone, territorial waters and submerged lands of the Commonwealth of Puerto Rico.

The CZMA requires a notice be published in the Federal Register, indicating the date on which the decision recorded has been closed. A final decision on this appeal must be issued no later than 90 days after publication of this notice. 16 U.S.C. 1465(a). The deadline may be extended by publishing, within the 90-day period, a subsequent notice explaining why a decision cannot be issued within this time frame. In this event, a final decision must be issued no later than 45 days after publication of the subsequent notice. 16 U.S.C. 1465(b).

(Federal Domestic Assistance Catalog No. 11.419 Coastal Zone Management Program Assistance.)

For additional information about this appeal contact Nancy Briscoe, 301-713-1219.
Dated: January 19, 2005.
James R. Walpole,
General Counsel.

[FR Doc. 05-1502 Filed 1-26-05; 8:45 am]

BILLING CODE 3510-08-M